NATIONAL FOUNDATION ON THE ARTS AND THE HUMANITIES

Institute of Museum and Library Services

Submission for OMB Review, Comment Request, Proposed Collection Requests: Community Catalyst Initiative (CCI): The Roles of Libraries and Museums as Enablers of Community Vitality and Co-Creators of Positive Community Change Program Cohort Evaluation

AGENCY: Institute of Museum and Library Services, National Foundation on the Arts and the Humanities.

ACTION: Submission for OMB review, comment request.

SUMMARY: The Institute of Museum and Library Services announces the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. By this notice, IMLS is soliciting comments concerning a proposed cohort evaluation project related to the “Community Catalyst Initiative: Roles of Libraries and Museums as Enablers of Community Vitality and Co-Creators of Positive Community Change” grant program and document processes related to community engagement, partnerships, and associated outcomes for the benefit of the museum and library fields.

A copy of the proposed information collection request can be obtained by contacting the individual listed below in the ADDRESSES section of this notice.

DATES: Comments must be submitted to the office listed in the FOR FURTHER INFORMATION CONTACT section below on or before December 31, 2018.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

ADDRESSES: Comments should be sent to Office of Information and Regulatory Affairs, Attn.: OMB Desk Officer for Education, Office of Management and Budget, Room 10235, Washington, DC 20503, (202) 395-7316.

FOR FURTHER INFORMATION CONTACT: Dr. Sandra Webb, Director of Grant Policy and Management, Institute of Museum and Library Services, 955 L'Enfant Plaza North SW, Suite 4000, Washington, DC 20024-2135. Dr. Webb can be reached by Telephone: 202-653-4718 Fax: 202-653-4608, or by email at swebb@imls.gov, or by teletype (TTY/TDD) for persons with hearing difficulty at 202-653-4614.

SUPPLEMENTARY INFORMATION:

I. Background

The Institute of Museum and Library Services is the primary source of federal support for the nation's libraries and museums. We advance, support, and empower America's museums, libraries, and related organizations through grant making, research, and policy development. Our vision is a nation where museums and libraries work together to work together to transform the lives of individuals and communities. To learn more, visit www.imls.gov.

II. Current Actions

IMLS plays an essential role in ensuring that the public dollars invested in museums and libraries benefit the communities they serve. To remain vital to the communities they serve, museums and libraries are increasingly expected to contribute to community wellbeing through activities that promote community assets and address community needs. Making such contributions, however, requires knowledge and skills for community engagement that are not typically part of educational programs that prepare people for professions in these institutions. In addition, organizational structures and processes in museums and libraries are not typically set up to support and facilitate such engagement.

In recognition of this capacity-building opportunity, IMLS designed CCI, a grant program for museums, libraries, and their community partners interested in enhancing the benefits of their collaborative, community-based efforts (i.e., asset-focused, community-driven collaboration) through (1) intensive training to build museums and libraries capacity for asset-based community engagement, (2) consulting to support implementation of the project grants in local communities, and (3) creating peer opportunities for the museum and library grantees, along with their core partners, to learn from each other and share innovative ideas and promising practices. One- to two-year grants were awarded to 12 organizations in each of two consecutive cohorts, the first in the fall of 2017 and the second in the fall of 2018. Grantee organizations are either museums, libraries, or other institutions that proposed to collaborate closely with museums and libraries.

This proposed evaluation supports the Agency's FY 2018-2022 Strategic Plan, which frames how the Agency plans to meet the essential information, education, research, economic, cultural, and civic needs of the American public. Under the Strategic Plan, IMLS's objectives include “adapt to the changing needs of the museum and library fields by incorporating proven approaches as well as new ideas into IMLS programs and services” (4.2), “encourage library and museum professionals and institutions to share and adopt best practices and innovations” (2.2), and “identify trends in the museum and library fields to help organizations make informed decisions” (2.3).

This proposed study will be the first evaluation of the entire CCI initiative. It is a summative assessment of CCI implementation and initial outcomes across the two cohorts of grantees and their 24 diverse projects. This assessment builds on the 24 grantees' evaluations of their own individual projects. It uses a set of common indicators to assess implementation and interim outcomes among museums, libraries, local networks, and communities across all grantee projects.

Agency: Institute of Museum and Library Services.

Title: Community Catalyst Initiative: The Roles of Libraries and Museums as Enablers of Community Vitality and Co-Creators of Positive Community Change Program Cohort Evaluation.

OMB Number: 3137-TBD.

Frequency: One-time collection anticipated.

Affected Public: Libraries, community agencies, institutions of higher education, museums, and other entities that are associated with or advance the museum and library fields.

Number of Respondents: 599.

Estimated Average Burden per Response: $24.26.

Estimated Total Annual Burden Hours: 668.

Total Annualized capital/startup costs: n/a.

Total Annual costs: $18,528.

Dated: November 28, 2018.
Kim Miller,
Grants Management Specialist, Office of Grants Policy and Management.

[FR Doc. 2018-26210 Filed 11-30-18; 8:45 am]

BILLING CODE 7036-01-P